FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 012015-000.

Title: BBC Chartering and Logistic—Dockwise Yacht Transport Agreement.

Parties: BBC Chartering & Logistic GmbH & Co. KG, and Dockwise Yacht Transport LLC.

Filing Party: Matthew Thomas; Troutman Sanders LLP; 401 9th Street, NW.; Suite 1000; Washington, DC 20004.

Synopsis: The agreement authorizes BBC Chartering & Logistic GmbH & Co. KG to charter space to Dockwise Yacht Transport LLC for transport of yachts worldwide.

Agreement No.: 012016-000.

Title: Maersk Line / Wan Hai Space Charter Agreement.

Parties: A.P. Moller-Maersk A/S trading under the name of Maersk Line and Wan Hai Lines Ltd.

Filing Party: Wayne R. Rohde; Sher & Blackwell; 1850 M Street, NW., Ste 900; Washington, DC 20036.

Synopsis: Agreement authorizes Maersk Line to charter space to Wan Hai in trade between ports of California and ports of South Korea and People's Republic of China.

Agreement No.: 012017-000.

Title: COSCON/SINOLINES Vessel Sharing Agreement.

Parties: COSCO Container Lines Company Ltd. and Sinotrans Container Lines Co. Ltd.

Filing Party: Robert B. Yoshitomi; Nixon Peabody, LLP; 555 West Fifth Street, 46th Floor; Los Angeles, CA 90013.

Synopsis: Agreement authorizes COSCO Container Lines Company Ltd. and Sinotrans Container Lines Co., Ltd. to charter slots to each other and coordinate sailings between U.S. West Coast ports and ports in China, Korea and Japan.

Agreement No.: 012018-000.

Title: Matson/MELL Space Charter Agreement.

Parties: Matson Navigation Company, Inc. and Marianas Express Lines Ltd.

Filing Party: Sloan White; Assistant General Counsel; Matson Navigation Company; 555 12th Street; Oakland, CA 94607.

Synopsis: The agreement authorizes Marianas Express to charter space to Matson between ports in Guam and ports in Palau and Yap.

By order of the Federal Maritime Commission.
Dated: November 2, 2007.
Bryant L. VanBrakle,
Secretary.

[FR Doc. E7-21897 Filed 11-6-07; 8:45 am]

BILLING CODE 6730-01-P